DEPARTMENT OF THE INTERIOR

National Park Service

National Preservation Technology and Training Board—National Center for Preservation Technology and Training: Meeting

AGENCY: National Park Service, U.S. Department of the Interior.

ACTION: Notice.

SUMMARY: Notice is hereby given in accordance with the Federal Advisory Committee Act (5 U.S.C. Appendix (1988)), that the Preservation Technology and Training Board (Board) of the National Center for Preservation Technology and Training (NCPTT), National Park Service will meet on Friday and Saturday, November, 2-3, 2007, in San Juan, Puerto Rico.

The Board was established by Congress to provide leadership, policy advice, and professional oversight to the National Park Service's NCPTT in compliance with Section 404 of the National Historic Preservation Act of 1966, as amended, (16 U.S.C. 470x-2(e)).

Location: The Board will meet at the Caribe Hilton Hotel, Los Rosales Street, Gerónimo Grounds, San Juan, Puerto Rico 00901—telephone (787) 721-0303.

DATES: The meeting will run from 9 a.m. to 5 p.m. on November 2 and from 9 a.m. to 12 p.m. on November 3.

SUPPLEMENTARY INFORMATION: The Board's meeting agenda will include: review and comment on NCPTT FY2007 accomplishments and operational priorities for FY2008; FY2007 and FY2008 NCPTT budget and initiatives; proposed Wingspread Conference on Sustainability in Preservation; revitalization of the Friends group, and Board workgroup reports.

The Board meeting is open to the public. Facilities and space for accommodating members of the public are limited, however, and persons will be accommodated on a first come, first served basis. Any member of the public may file a written statement concerning any of the matters to be discussed by the Board.

Minutes of the meeting will be available for public inspection no later than 90 days after the meeting at the office of the Executive Director, National Center for Preservation Technology and Training, National Park Service, U.S. Department of the Interior, 645 University Parkway, Natchitoches, LA 71457—telephone (318) 356-7444.

An exceptional set of circumstances in the approval and transmission of this notice has resulted in the publication of the notice less than 15 days before the date of the meeting. The National Park Service has made extraordinary efforts to provide notification to all Board members and to the public. The meeting is being co-located with the Association for Preservation Technology (APT) meeting, and it would cause an undue burden on the Board members to reschedule the meeting.

FOR FURTHER INFORMATION CONTACT: Mr. Kirk A. Cordell, Executive Director, National Center for Preservation Technology and Training, National Park Service, U.S. Department of the Interior, 645 University Parkway, Natchitoches, LA 71457—telephone (318) 356-7444. In addition to U.S. Mail or commercial delivery, written comments may be sent by fax to Mr. Cordell at (318) 356-9119.

Dated: October 22, 2007.
Janet Snyder Matthews,
Associate Director for Cultural Resources.

[FR Doc. E7-21084 Filed 10-25-07; 8:45 am]

BILLING CODE 4312-52-P